OVERSEAS PRIVATE INVESTMENT CORPORATION

January 11, 2007 Public Hearing

OPIC's Sunshine Act notice of its Annual Public Hearing meeting was published in the Federal Register (Volume 71, Number 246, Page 77074) on December 22, 2006. No requests were received to provide testimony or submit written statements for the record; therefore, OPIC's annual public hearing scheduled for 2 p.m. on January 11, 2007 has been cancelled.

Contact Person for Information: Information on the hearing cancellation may be obtained from Connie M. Downs at (202) 336-8438, via facsimile at (202) 218-0136, or via e-mail at cdown@opic.gov.

Dated: January 8, 2007.
Connie M. Downs,
OPIC Corporate Secretary.

[FR Doc. 07-84 Filed 1-8-07; 3:19 pm]

BILLING CODE 3210-01-M